DEPARTMENT OF ENERGY

Federal Energy Regulatory Commission

Combined Notice of Filings #1

Take notice that the Commission received the following electric corporate filings:

Docket Numbers: EC23-82-000.

Applicants: Hamilton Liberty LLC, Hamilton Patriot LLC, Hamilton Projects Acquiror, LLC, BCPG USA Inc.

Description: Joint Application for Authorization Under Section 203 of the Federal Power Act of Hamilton Liberty LLC, et al.

Filed Date: 4/28/23.

Accession Number: 20230428-5666.

Comment Date: 5 p.m. ET 5/19/23.

Docket Numbers: EC23-83-000.

Applicants: Imperial Valley Solar 2, LLC, NES Galaxy, LLC.

Description: Joint Application for Authorization Under Section 203 of the Federal Power Act of Imperial Valley Solar 2, LLC, et al.

Filed Date: 4/28/23.

Accession Number: 20230428-5668.

Comment Date: 5 p.m. ET 5/19/23.

Take notice that the Commission received the following electric rate filings:

Docket Numbers: ER10-2129-016; ER10-2134-014; ER10-2135-016; ER10-2136-020; ER15-103-012; ER18-140-010; ER22-2144-003.

Applicants: Invenergy Nelson Expansion LLC, Lackawanna Energy Center LLC, Invenergy Nelson LLC, Invenergy Cannon Falls LLC, Spindle Hill Energy LLC, Hardee Power Partners Limited, Grays Harbor Energy LLC.

Description: Notice of Change in Status of Grays Harbor Energy LLC, et al.

Filed Date: 4/28/23.

Accession Number: 20230428-5706.

Comment Date: 5 p.m. ET 5/19/23.

Docket Numbers: ER10-3120-014; ER10-3128-014; ER10-3136-014; ER10-3145-014; ER11-2701-016; ER15-762-020; ER15-1579-018; ER15-1582-019; ER15-1914-020; ER15-2680-016; ER16-468-014; ER16-474-015; ER16-890-015; ER16-1255-017; ER16-1738-014; ER16-1901-014; ER16-1955-014; ER16-1956-014; ER16-1973-014; ER16-2201-013; ER16-2224-013; ER16-2578-014; ER17-306-013; ER17-544-013; ER17-1864-012; ER17-1871-012; ER17-1909-012; ER18-1667-009; ER18-2492-008; ER19-846-009; ER19-847-009; ER19-1179-004; ER19-1473-004; ER20-1629-003; ER20-2065-004; ER20-2066-004; ER20-2519-003; ER21-1488-003; ER21-2156-004; ER21-2766-003; ER22-799-004; ER23-48-002.

Applicants: West Line Solar, LLC, Lancaster Area Battery Storage, LLC, Central Line Solar, LLC, Antelope Expansion 1B, LLC, Luna Storage, LLC, East Line Solar, LLC, Antelope Expansion 3B, LLC, Antelope Expansion 3A, LLC, AES ES Alamitos, LLC, AES Alamitos Energy, LLC, AES ES Gilbert, LLC, San Pablo Raceway, LLC, Antelope DSR 3, LLC, FTS Master Tenant 2, LLC, Antelope Expansion 2, LLC, Bayshore Solar C, LLC, Bayshore Solar B, LLC, Bayshore Solar A, LLC, Beacon Solar 1, LLC, Beacon Solar 3, LLC, North Lancaster Ranch LLC, Solverde 1, LLC, Antelope DSR 1, LLC, Western Antelope Blue Sky Ranch B LLC, Western Antelope Dry Ranch LLC, Antelope DSR 2, LLC, Elevation Solar C LLC, Beacon Solar 4, LLC, Antelope Big Sky Ranch LLC, Summer Solar LLC, Central Antelope Dry Ranch C LLC,FTS Master Tenant 1, LLC, Sandstone Solar LLC, 87RL 8me LLC, 65HK 8me LLC, 67RK 8me LLC, Sierra Solar Greenworks LLC, Mountain View Power Partners IV, LLC, AES Alamitos, LLC, Mountain View Power Partners, LLC, AES Redondo Beach, L.L.C., AES Huntington Beach, L.L.C.

Description: Notice of Change in Status of Sierra Solar Greenworks LLC, et al. under ER15-762, et al.

Filed Date: 4/27/23.

Accession Number: 20230427-5487.

Comment Date: 5 p.m. ET 5/18/23.

Docket Numbers: ER16-918-006.

Applicants: Rhode Island State Energy Center, LP.

Description: Notice of Non-Material Change in Status of Rhode Island State Energy Center, LP.

Filed Date: 4/28/23.

Accession Number: 20230428-5685.

Comment Date: 5 p.m. ET 5/19/23.

Docket Numbers: ER17-351-006; ER17-354-006.

Applicants: American Falls Solar II, LLC, American Falls Solar, LLC.

Description: Notice of Non-Material Change in Status of American Falls Solar, LLC, et al.

Filed Date: 4/28/23.

Accession Number: 20230428-5699.

Comment Date: 5 p.m. ET 5/19/23.

Docket Numbers: ER17-1394-008.

Applicants: 83WI 8me, LLC.

Description: Notice of Non-Material Change in Status of 83WI 8me, LLC.

Filed Date: 5/1/23.

Accession Number: 20230501-5463.

Comment Date: 5 p.m. ET 5/22/23.

Docket Numbers: ER17-1609-005; ER20-2667-001.

Applicants: South Field Energy LLC, Carroll County Energy LLC.

Description: Notice of Change in Status of Carroll County Energy LLC et al.

Filed Date: 5/1/23.

Accession Number: 20230501-5514.

Comment Date: 5 p.m. ET 5/22/23.

Docket Numbers: ER18-140-011.

Applicants: Lackawanna Energy Center LLC.

Description: Notice of Change in Status of Lackawanna Energy Center LLC.

Filed Date: 4/28/23.

Accession Number: 20230428-5707.

Comment Date: 5 p.m. ET 5/19/23.

Docket Numbers: ER19-53-004.

Applicants: SR Millington, LLC.

Description: Notice of Non-Material Change in Status of SR Millington, LLC.

Filed Date: 4/28/23.

Accession Number: 20230428-5698.

Comment Date: 5 p.m. ET 5/19/23.

Docket Numbers: ER19-2429-008.

Applicants: Brookfield Smoky Mountain Hydropower LP.

Description: Notice of Non-Material Change in Status of Brookfield Smoky Mountain Hydropower LP.

Filed Date: 5/1/23.

Accession Number: 20230501-5466.

Comment Date: 5 p.m. ET 5/22/23.

Docket Numbers: ER21-1297-005.

Applicants: BigBeau Solar, LLC.

Description: Notice of Non-Material Change in Status of BigBeau Solar, LLC.

Filed Date: 4/28/23.

Accession Number: 20230428-5701.

Comment Date: 5 p.m. ET 5/19/23.

Docket Numbers: ER22-9-001; ER22-11-001.

Applicants: Janis Solar, LLC, Grissom Solar, LLC.

Description: Notice of Non-Material Change in Status of Grissom Solar, LLC, et al.

Filed Date: 4/28/23.

Accession Number: 20230428-5687.

Comment Date: 5 p.m. ET 5/19/23.

Docket Numbers: ER22-1549-003.

Applicants: Sun Streams PVS, LLC.

Description: Notice of Non-Material Change in Status of Sun Streams PVS, LLC.

Filed Date: 4/28/23.

Accession Number: 20230428-5708.

Comment Date: 5 p.m. ET 5/19/23.

Docket Numbers: ER23-1788-000.

Applicants: Arizona Public Service Company.

Description: Tariff Amendment: Service Agreement No. 403—Notice of Cancellation to be effective 7/1/2023.

Filed Date: 5/1/23.

Accession Number: 20230501-5304.

Comment Date: 5 p.m. ET 5/22/23.

Docket Numbers: ER23-1789-000.

Applicants: AZ Solar 1, LLC.

Description: Compliance filing: Tariff Revisions to be effective 5/2/2023.

Filed Date: 5/1/23.

Accession Number: 20230501-5309.

Comment Date: 5 p.m. ET 5/22/23.

Docket Numbers: ER23-1790-000.

Applicants: EnergyMark, LLC.

Description: Compliance filing: Tariff Revisions to be effective 5/2/2023.

Filed Date: 5/1/23.

Accession Number: 20230501-5312.

Comment Date: 5 p.m. ET 5/22/23.

Docket Numbers: ER23-1791-000.

Applicants: FL Solar 1, LLC.

Description: Compliance filing: Tariff Revisions to be effective 5/2/2023.

Filed Date: 5/1/23.

Accession Number: 20230501-5315.

Comment Date: 5 p.m. ET 5/22/23.

Docket Numbers: ER23-1792-000.

Applicants: FL Solar 4, LLC.

Description: Compliance filing: Tariff Revisions to be effective 5/2/2023.

Filed Date: 5/1/23.

Accession Number: 20230501-5319.

Comment Date: 5 p.m. ET 5/22/23.

Docket Numbers: ER23-1793-000.

Applicants: GA Solar 3, LLC.

Description: Compliance filing: Tariff Revisions to be effective 5/2/2023.

Filed Date: 5/1/23.

Accession Number: 20230501-5327.

Comment Date: 5 p.m. ET 5/22/23.

Docket Numbers: ER23-1794-000.

Applicants: Goal Line, L.P.

Description: Compliance filing: Tariff Revisions to be effective 5/2/2023.

Filed Date: 5/1/23.

Accession Number: 20230501-5331.

Comment Date: 5 p.m. ET 5/22/23.

Docket Numbers: ER23-1795-000.

Applicants: Grand View PV Solar Two LLC.

Description: Compliance filing: Tariff Revisions to be effective 5/2/2023.

Filed Date: 5/1/23.

Accession Number: 20230501-5337.

Comment Date: 5 p.m. ET 5/22/23.

Take notice that the Commission received the following electric securities filings:

Docket Numbers: ES23-44-000.

Applicants: Golden Spread Electric Cooperative, Inc.

Description: Application Under Section 204 of the Federal Power Act for Authorization to Issue Securities of Golden Spread Electric Cooperative, Inc.

Filed Date: 5/1/23.

Accession Number: 20230501-5460.

Comment Date: 5 p.m. ET 5/22/23.

Take notice that the Commission received the following public utility holding company filings:

Docket Numbers: PH23-13-000.

Applicants: The Carlyle Group Inc.

Description: The Carlyle Group Inc. submits FERC 65-B Notice of Exemption Notification.

Filed Date: 4/28/23.

Accession Number: 20230428-5696.

Comment Date: 5 p.m. ET 5/19/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2023.
Debbie-Anne A. Reese,
Deputy Secretary.

[FR Doc. 2023-09979 Filed 5-9-23; 8:45 am]

BILLING CODE 6717-01-P